ENVIRONMENTAL PROTECTION AGENCY

[EPA-HQ-OECA-2014-0063; FRL-9961-08-OEI]

Information Collection Request Submitted to OMB for Review and Approval; Comment Request; NESHAP for Polyether Polyols Production (Renewal)

AGENCY: Environmental Protection Agency (EPA).

ACTION: Notice.

SUMMARY: The Environmental Protection Agency has submitted an information collection request (ICR), NESHAP for Polyether Polyols, to the Office of Management and Budget (OMB) for review and approval in accordance with the Paperwork Reduction Act. This is a proposed extension of the ICR, which is currently approved through May 31, 2017. Public comments were previously requested via the Federal Register on May 3, 2016 during a 60-day comment period. This notice allows for an additional 30 days for public comments. A fuller description of the ICR is given below, including its estimated burden and cost to the public. An Agency may neither conduct nor sponsor, and a person is not required to respond to, a collection of information unless it displays a currently-valid OMB control number.

DATES: Additional comments may be submitted on or before July 24, 2017.

ADDRESSES: Submit your comments, referencing Docket ID Number EPA-HQ-OECA-2014-0063, to: (1) EPA online using www.regulations.gov (our preferred method), or by email to docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents for this renewal ICR, NESHAP for Polyether Polyols (40 CFR part 63, subpart PPP), (EPA ICR No. 1811.10, OMB Control No. 2060-0415), which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit: http://www.epa.gov/dockets.

Abstract: The affected entities are subject to the General Provisions of the NESHAP (40 CFR part 63, subpart A), and any changes or additions to the General Provisions are specified at 40 CFR part 63, subpart PPP. Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Form Numbers: None.

Respondents/affected entities: Polyether polyols production facilities.

Respondent's obligation to respond: Mandatory (40 CFR part 63, subpart PPP).

Estimated number of respondents: 23 (total).

Frequency of response: Initially, occasionally and semiannually.

Total estimated burden: 3,710 hours (per year). Burden is defined at 5 CFR 1320.3(b).

Total estimated cost: $383,000 (per year), and does not include any annualized capital/startup or operation & maintenance costs.

Changes in the Estimates: There is a small increase in labor hours in this ICR compared to the previous ICR. This is due to the removal of affirmative defense and the addition of a one-hour estimate associated with re-familiarization of the regulatory requirements for each regulated source. There is also a decrease in the total capital and O&M costs. Since all existing sources are expected to be compliant with any initial requirements of the 2014 rule, the estimated capital cost has decreased since the last ICR.

Courtney Kerwin,
Director, Regulatory Support Division.

[FR Doc. 2017-13149 Filed 6-22-17; 8:45 am]

BILLING CODE 6560-50-P